DEPARTMENT OF THE INTERIOR

National Park Service

Cuyahoga Valley National Park EIS Availability

AGENCY: National Park Service.

ACTION: Notice of availability of the draft rural landscape management program Environmental Impact Statement for Cuyahoga Valley National Park, Ohio.

SUMMARY: Pursuant to section 102(2) of the National Environmental Policy Act of 1969, the National Park Service (NPS) announces the availability of the draft rural landscape management program Environmental Impact Statement (DEIS) for Cuyahoga Valley National Park, Ohio (hereafter “the Park”).

DATES: There will be a 60-day public review period for comments on this document. Comments on the DEIS must be received no later than 60-days after the Environmental Protection Agency publishes its notice of availability in the Federal Register. Public open houses for information about, or to make comment on, the DEIS will be announced in the local media and the Park's web site when they are scheduled. Information about meeting time and place will be available by contacting the Park's communications center at 440-526-5256 or visiting the Park's web site at: http://www.nps.gov/cuva/management/rmprojects/ruraleis/.

ADDRESSES: Copies of the DEIS are available by request by writing to Superintendent, Cuyahoga Valley National Park, 15610 Vaughn Road, Brecksville, OH 44141, by phone 440-546-5903, or by e-mail cuva_superintendent@nps.gov. A downloadable on-line version of the document is available at: http://www.nps.gov/cuva/management/rmprojects/ruraleis/.

FOR FURTHER INFORMATION CONTACT: Superintendent, Cuyahoga Valley National Park, 15610 Vaughn Road, Brecksville, OH 44141, or by phone 440-546-5903.

SUPPLEMENTARY INFORMATION: The preservation of the rural landscape is central to the Park's legislative mandate. The law, that established the Park, mandates the “preservation of the historic, scenic, natural, and recreational values of the Cuyahoga Valley” (Public Law 93-555, 1974). One component of the historic and scenic values of the Park is the rural landscape—lands and structures modified by humans for agricultural use. Throughout the Park's history, efforts to preserve the rural landscape have been sporadic; there has never been a comprehensive program to manage the rural landscape. As a result, many of the Park's rural landscape resources have been lost. Therefore, the Park is proposing to better protect and revitalize this cultural resource by implementing an integrated rural landscape management program, with the goal of more effectively and systematically preserving and protecting the rural landscape resources in the Park. The DEIS describes and analyzes the environmental impacts of alternatives and their associated impacts. In the Park's preferred alternative (alternative 2—Countryside Initiative), the rural landscape would be managed largely by issuing long-term leases to private individuals for the purpose of conducting sustainable agricultural activities. Two additional action alternatives and a no action alternative are evaluated in this EIS.

Persons wishing to comment may do so by any one of several methods. They may attend the open houses noted above. They may mail comments to Superintendent, Cuyahoga Valley National Park, 15610 Vaughn Road, Brecksville, OH 44141. They also may comment via e-mail to cuav_superintendent@nps.gov (include name and return address in the e-mail message). Finally, they may hand-deliver comments to Park Headquarters, Cuyahoga Valley National Park, 15610 Vaughn Road, Brecksville, OH 44141.

The NPS' practice is to make comments, including names and home addresses of respondents, available for public review during regular business hours. Individual respondents may request we withhold their home address from the record, which we will honor to the extent allowable by law. There also may be circumstances, in which we would withhold from the record a respondent's identity, as allowable by law. If you wish us to withhold your name and/or address, you must state this prominently at the beginning of your comment. However, we will not consider anonymous comments. We will make all submissions from organizations or businesses, and from individuals identifying themselves as representatives or officials of organizations or businesses available for public inspection in their entirety.

The responsible official is Mr. William Schenk, Midwest Regional Director.

Dated: December 17, 2002.
William W. Schenk,
Regional Director, Midwest Region.

[FR Doc. 03-2716 Filed 2-4-03; 8:45 am]

BILLING CODE 4310-70-P